DEPARTMENT OF THE INTERIOR

U.S. Geological Survey

[GX15DA009DU2000]

Agency Information Collection Activities: Request for Comments

AGENCY: U.S. Geological Survey (USGS), Department of the Interior.

ACTION: Notice of a new information collection, National Ground-Water Monitoring Network Cooperative Funding Application.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before April 7, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference “Information Collection 1028-NEW, National Ground-Water Monitoring Network Cooperative Funding Application” in all correspondence.

FOR FURTHER INFORMATION CONTACT: Daryll Pope, USGS, at (609) 771-3933 or dpope@usgs.gov.

SUPPLEMENTARY INFORMATION:

I. Abstract

The USGS is working with the Federal Advisory Committee on Water Information (ACWI) and its Subcommittee on Ground Water (SOGW) to develop and administer a National Ground-Water Monitoring Network (NGWMN). This network is required as part of Public Law 111-11, Subtitle F—Secure Water: Section 9507 “Water Data Enhancement by the United States Geological Survey”. The Network will consist of an aggregation of well data from existing Federal, Multistate, State, Tribal, and local groundwater monitoring networks. To support data providers for the National Ground-Water Monitoring Network, the USGS will be providing funding through cooperative agreements to water-resource agencies that collect groundwater data. The USGS will be soliciting applications for funding that will request information from the Agency collecting the data. Elements will include contact information (phone number and email address), and a proposal describing their existing data collection and a plan to evaluate their data for incorporation into the NGWMN. The proposal will be evaluated by the USGS and the NGWMN Program Board to appropriate funding. The proposal will describe the groundwater networks to be included in the NGWMN, the purpose of the networks, an estimate of the number of wells they would submit for the network, an overview of the methods they would use to select and classify wells for the network a description of data collection techniques, and information on their databases. The proposal would also require estimates of one-time costs to complete the above tasks and annual costs to participate in the network.

II. Data

OMB Control Number: 1028-NEW.

Title: National Ground-Water Monitoring Network Cooperative Funding Application.

Type of Request: New information collection.

Affected Public: Multistate, State, Tribal, or Local water-resource agencies who operate groundwater monitoring networks.

Respondent's Obligation: Mandatory to be considered for funding.

Frequency of Collection: Annually.

Estimated Annual Number of Respondents: 100.

Estimated Total Number of Annual Responses: 100.

Estimated Time per Response: Initial application will take 30 hours to prepare the proposal. This includes time to review the NGWMN Framework Document to understand the Network design and requirements for data providers. Annual proposal renew will take 4 hours.

Estimated Annual Burden Hours: 3000 hours for initial proposal, 400 hours for annual renewal.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

William Cunningham,
Chief, Office of Groundwater.

[FR Doc. 2015-02332 Filed 2-5-15; 8:45 am]

BILLING CODE 4311-AM-P